DEPARTMENT OF ENERGY

Federal Energy Regulatory Commission

Combined Notice of Filings

Take notice that the Commission has received the following Natural Gas Pipeline Rate and Refund Report filings:

Filings Instituting Proceedings

Docket Numbers: CP13-495-000.

Applicants: Texas Eastern Transmission, LP.

Description: Application to Abandon Exchange Services Provided Under Rate Schedules X-62 and X-121.

Filed Date: 6/12/13.

Accession Number: 20130612-5074.

Comments Due: 5 p.m. ET 7/11/13.

Docket Numbers: RP13-1036-000.

Applicants: Gulf South Pipeline Company, LP.

Description: Remove Expired and/or Terminated Agmts to be effective 8/1/2013.

Filed Date: 7/2/13.

Accession Number: 20130702-5042.

Comments Due: 5 p.m. ET 7/15/13.

Docket Numbers: RP13-1037-000.

Applicants: Dominion Transmission, Inc.

Description: DTI—2013 Overrun and Penalty Revenue Distribution.

Filed Date: 7/2/13.

Accession Number: 20130702-5047.

Comments Due: 5 p.m. ET 7/15/13.

Docket Numbers: RP13-1038-000.

Applicants: ANR Pipeline Company.

Description: DPL Energy FTS-1 Agmt to be effective 7/1/2013.

Filed Date: 7/2/13.

Accession Number: 20130702-5077.

Comments Due: 5 p.m. ET 7/15/13.

Docket Numbers: RP13-1039-000.

Applicants: Dauphin Island Gathering Partners.

Description: Negotiated Rates 2013-07-02 to be effective 7/3/2013.

Filed Date: 7/2/13.

Accession Number: 20130702-5078.

Comments Due: 5 p.m. ET 7/15/13.

Docket Numbers: RP13-1041-000.

Applicants: Iroquois Gas Transmission System, L.P.

Description: 07/02/13 Reservation Charge Credit to be effective 8/1/2013.

Filed Date: 7/2/13.

Accession Number: 20130702-5202.

Comments Due: 5 p.m. ET 7/15/13.

Docket Numbers: RP13-1042-000.

Applicants: ProLiance Energy, LLC.

Description: Petition of ProLiance Energy, LLC for Temporary Waivers of Capacity Release Regulation and Related Pipeline Tariff.

Filed Date: 7/2/13.

Accession Number: 20130702-5222.

Comments Due: 5 p.m. ET 7/9/13.

Docket Numbers: RP13-1043-000.

Applicants: Texas Gas Transmission, LLC.

Description: Correction to Section 6.9 to be effective 2/17/2013.

Filed Date: 7/3/13.

Accession Number: 20130703-5018.

Comments Due: 5 p.m. ET 7/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-250-002.

Applicants: Kern River Gas Transmission Company.

Description: 2013 Credit Compliance to be effective 6/18/2013.

Filed Date: 7/3/13.

Accession Number: 20130703-5000.

Comments Due: 5 p.m. ET 7/15/13.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2013.
Nathaniel J. Davis, Sr.,
Deputy Secretary.

[FR Doc. 2013-16627 Filed 7-10-13; 8:45 am]

BILLING CODE 6717-01-P